DEPARTMENT OF COMMERCE

Patent and Trademark Office

37 CFR Part 1

[Docket No. PTO-P-2019-0009]

RIN 0651-AD33

Small Entity Government Use License Exception

Correction

In rule document C1-2020-27049 appearing on page 2542 in the issue of Wednesday, January 13, 2021, the correction is withdrawn.

[FR Doc. C2-2020-27049 Filed 1-14-21; 8:45 am]

BILLING CODE 1301-00-D